DEPARTMENT OF TRANSPORTATION

Federal Aviation Administration

14 CFR Part 71

[Docket No. FAA-2017-1159; Airspace Docket No. 17-ASO-23]

RIN 2120-AA66

Amendment of Class D Airspace and Class E Airspace; Jacksonville, NC and Establishment of Class D Airspace; Jacksonville, NC

AGENCY: Federal Aviation Administration (FAA), DOT.

ACTION: Final rule.

SUMMARY: This action amends Class D airspace at New River Marine Corps Air Station (MCAS), at Jacksonville, NC, by removing Albert J. Ellis Airport, Jacksonville, NC, from the legal description, and establishing Albert J. Ellis Airport under its own designation. This is an editorial change that continues to provide the controlled airspace required for the new air traffic control tower at Albert J. Ellis Airport for the safety and management of instrument flight rules (IFR) operations. This action also updates the geographic coordinates of New River MCAS in Class D and E airspace, replaces the outdated term “Airport/Facility Directory” with the term “Chart Supplement”, and makes an editorial change to the airspace designation.

DATES: Effective 0901 UTC, November 8, 2018. The Director of the Federal Register approves this incorporation by reference action under title 1 Code of Federal Regulations part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of FAA Order 7400.11B at NARA, call (202) 741-6030, or go to https://www.archives.gov/federal-register/cfr/ibr-locations.html.

FAA Order 7400.11, Airspace Designations and Reporting Points, is published yearly and effective on September 15.

FOR FURTHER INFORMATION CONTACT: John Fornito, Operations Support Group, Eastern Service Center, Federal Aviation Administration, 1701 Columbia Avenue, College Park, GA 30337; telephone (404) 305-6364.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and E airspace at New River MCAS, and establishes Class D airspace at Albert J. Ellis Airport, Jacksonville, NC, to support IFR operations at these airports.

History

The FAA published a notice of proposed rulemaking (NPRM) in the Federal Register (83 FR 9243, March 5, 2018) for Docket No. FAA-2017-1159 to amend Class D airspace, and Class E airspace designated as an extension to a Class D surface area at New River MCAS and Albert J. Ellis Airport, Jacksonville, NC. Subsequent to publication, the FAA determined that establishment of Albert J. Ellis Airport in Class D airspace, associated with the New River MCAS, should be established under its own designation, thereby removing Albert J. Ellis Airport, Jacksonville, NC, from the New River MCAS Class D airspace description. This is merely an editorial change and does not alter the boundaries or operating requirements of the airspace. Except for this change, this rule is the same as published in the NPRM.

Interested parties were invited to participate in this rulemaking effort by submitting written comments on the proposal to the FAA. Two comments were received supporting the proposal.

While the Aircraft Owners and Pilots Association (AOPA) supported this proposal, they stated that the NPRM did not comply with FAA guidance in Order 7400.2L, Procedures for Handling Airspace Matters, because a graphic was not included in the docket. Additionally, AOPA encouraged the FAA to follow their guidance in the Order by making the action effective date coincidental to the sectional chart publication date.

The FAA has determined AOPA's comments raised no substantive issues with respect to the proposed changes to the airspace addressed in the NPRM. To the extent the FAA failed to follow its policy guidance reference publishing graphics in the docket and the amendment of the Class D airspace effective date to match the sectional chart date, we note the following.

With respect to AOPA's comment addressing graphics, FAA Order 7400.2.L, paragraph 2-3-3.c. requires the official docket to include available graphics. For this airspace action, no graphics were deemed necessary or produced in the review or development of the proposed airspace amendments noted in the NPRM; therefore, no graphics were available to include in the docket.

Specific to AOPA's comment regarding the FAA already creating a graphical depiction of new or modified airspace overlaid on a Sectional Chart for quality assurance purposes, this is not correct nor required in all cases. During the airspace reviews, airspace graphics may be created, if deemed necessary, to determine if there are any terrain issues, or if cases are considered complex. However, in many cases, when developing an airspace amendment proposal, a graphic is not required. It was unclear if the graphic AOPA argued was already created with a sectional chart background was actually the airspace graphic created by the Aeronautical Informational Services office in preparation of publishing the sectional charts. However, that graphic is normally created after the rulemaking determination is published.

With respect to AOPA's comment addressing effective dates, FAA Order 7400.2L, paragraph 2-3-7.a.4. states that, to the extent practicable, Class D airspace area and restricted area rules should become effective on a sectional chart date and that consideration should be given to selecting a sectional chart date that matches a 56-day enroute chart cycle date. The FAA does consider publishing Class D airspace amendment effective dates to coincide with the publication of sectional charts, to the extent practicable; however, this consideration is accomplished after the NPRM comment period ends in the Final Rule. Substantive comments received to NPRMs, flight safety concerns, management of IFR operations at affected airports, and immediacy of required proposed airspace amendments are some of the factors that must be taken into consideration when selecting the appropriate effective date. After considering all factors, the FAA may determine that selecting an effective date that conforms to a 56-day enroute chart cycle date that is not coincidental to sectional chart dates is better for the National Airspace System and its users than awaiting the next sectional chart date. Class D and E airspace designations are published in paragraph 5000 and 6004, respectively, of FAA Order 7400.11B dated August 3, 2017, and effective September 15, 2017, which is incorporated by reference in 14 CFR part 71.1. The Class D and E airspace designations listed in this document will be published subsequently in the Order.

Availability and Summary of Documents for Incorporation by Reference

This document amends FAA Order 7400.11B, Airspace Designations and Reporting Points, dated August 3, 2017, and effective September 15, 2016. FAA Order 7400.11B is publicly available as listed in the ADDRESSES section of this document. FAA Order 7400.11B lists Class A, B, C, D, and E airspace areas, air traffic service routes, and reporting points.

The Rule

This amendment to Title 14 Code of Federal Regulations (14 CFR) part 71 amends Class D airspace and Class E airspace designated as an extension at New River MCAS, Jacksonville, NC, by amending the geographic coordinates of New River MCAS to coincide with the FAA's aeronautical database.

Also, an editorial change is made to the airspace designation removing the city associated with New River MCAS in Class D airspace and Class E airspace designated as an extension, to comply with a change to FAA Order 7400.2L, Procedures for Handling Airspace Matters. An editorial change also is made to the legal description of New River MCAS for the classes above replacing “Airport/Facility Directory” with “Chart Supplement”.

Additionally, an editorial change is made moving establishment of the Albert J. Ellis Airport Class D airspace description from the Jacksonville, NC airspace associated with New River MCAS, and establishing the airspace under its own designation at Jacksonville, NC.

Class D and E airspace designations are published in Paragraphs 5000 and 6004, respectively, of FAA Order 7400.11B, dated August 3, 2017, and effective September 15, 2017, which is incorporated by reference in 14 CFR 71.1. The Class D airspace designation listed in this document will be published subsequently in the Order.

Regulatory Notices and Analyses

The FAA has determined that this regulation only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of Federal Aviation Administration Order 7400.11B, Airspace Designations and Reporting Points, dated August 3, 2017, effective September 15, 2017, is amended as follows:

Paragraph 5000 Class D Airspace.

* * * * *

ASO NC D Jacksonville, NC [Amended]

New River MCAS, NC

(Lat. 34°42′30″ N, long. 77°26′23″ W)

That airspace extending upward from the surface to and including 2,500 feet MSL within a 5-mile radius of New River MCAS. This Class D airspace area is effective during the specific days and times established in advance by a Notice to Airmen. The effective days and times will thereafter be continuously published in the Chart Supplement.

ASO NC D Jacksonville, NC [New]

Albert J. Ellis Airport, NC

(Lat. 34°49′45″ N, long. 77°36′44″ W)

That airspace extending upward from the surface to and including 2,600 feet MSL within a 4.2-mile radius of Albert J. Ellis Airport. This Class D airspace area is effective during the specific days and times established in advance by a Notice to Airmen. The effective days and times will thereafter be continuously published in the Chart Supplement.

Paragraph 6004 Class E Airspace Designated as an Extension to a Class D Surface Area.

* * * * *

ASO NC E4 Jacksonville, NC [Amended]

New River MCAS, NC

(Lat. 34°42′30″ N, long. 77°26′23″ W)

New River TACAN

(Lat. 34°42′26″ N, long. 77°26′25″ W)

That airspace extending upward from the surface within 3.2 miles each side of New River TACAN 239° radial, extending from the 5-mile radius of New River MCAS to 7 miles southwest of the TACAN. This Class E airspace area is effective during the specific days and times established in advance by a Notice to Airmen. The effective days and times will thereafter be continuously published in the Chart Supplement.

Issued in College Park, Georgia, on August 14, 2018.
Ryan W. Almasy,
Manager, Operations Support Group, Eastern Service Center, Air Traffic Organization.

[FR Doc. 2018-18043 Filed 8-22-18; 8:45 am]

BILLING CODE 4910-13-P